DEPARTMENT OF COMMERCE

Foreign-Trade Zones Board

[S-378-2025]

Approval of Subzone Status; Atlantic Veal & Lamb, LLC; Creston and Sterling, Ohio

On December 5, 2025, the Executive Secretary of the Foreign-Trade Zones (FTZ) Board docketed an application submitted by the Cleveland Cuyahoga County Port Authority, grantee of FTZ 40, requesting subzone status subject to the existing activation limit of FTZ 40, on behalf of Atlantic Veal & Lamb, LLC, in Creston and Sterling, Ohio.

The application was processed in accordance with the FTZ Act and Regulations, including notice in the Federal Register inviting public comment (90 FR 57181, December 10, 2025). The FTZ staff examiner reviewed the application and determined that it meets the criteria for approval. Pursuant to the authority delegated to the FTZ Board Executive Secretary (15 CFR 400.36(f)), the application to establish Subzone 40Q was approved on February 6, 2026, subject to the FTZ Act and the Board's regulations, including section 400.13, and further subject to FTZ 40's 2,000-acre activation limit.

Dated: February 6, 2026.
Elizabeth Whiteman,
Executive Secretary.

[FR Doc. 2026-02631 Filed 2-9-26; 8:45 am]

BILLING CODE 3510-DS-P